DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Emergency Management Institute Follow-up Evaluation Survey.

OMB Number: 1660-0044.

Abstract: FEMA Form 95-56 is a continuous self-assessment qualitative tool used to identify trainees' knowledge and skills gained through emergency management-related courses and the extent to which they have been beneficial and applicable in the conduct of their official positions. The information collected is primarily used to review course content and offerings for program planning and management purposes. Results are combined with other program metrics to document performance per GPRA mandates.

Affected Public: Individuals or households; State, local or tribal governments.

Number of Respondents: 2,300.

Estimated Time Per Respondent: FEMA Form 95-56, 15 minutes; Students participating in pilot testing for electronic version of FEMA Form 95-56, 30 minutes.

Estimated Total Annual Burden Hours: 600.

Frequency of Response: One per course.

COMMENTS: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before February 28, 2005.

FOR FURTHER INFORMATION CONTACT: Requests for additional information or copies of the information collection should be made to Muriel B. Anderson, Section Chief, Records Management, FEMA at 500 C Street, SW., Room 316, Washington, DC 20472, facsimile number (202) 646-3347, or e-mail address FEMA-Information-Collections@dhs.gov.

Dated: January 21, 2005.
Edward W. Kernan,
Branch Chief, Information Resources Management Branch, Information Technology Services Division.

[FR Doc. 05-1571 Filed 1-27-05; 8:45 am]

BILLING CODE 9110-17-P